DEPARTMENT OF ENERGY

Federal Energy Regulatory Commission

Combined Notice of Filings #1

Take notice that the Commission received the following exempt wholesale generator filings:

Docket Numbers: EG25-71-000.

Applicants: Oriana Solar, LLC.

Description: Oriana Solar, LLC submits Notice of Self-Certification of Exempt Wholesale Generator Status.

Filed Date: 1/3/25.

Accession Number: 20250103-5050.

Comment Date: 5 p.m. ET 1/24/25.

Take notice that the Commission received the following electric rate filings:

Docket Numbers: ER25-503-001.

Applicants: Public Service Company of Colorado.

Description: Tariff Amendment: 2025-01-02—PSC—UPI—T-2024-8—Farren—SISA—853-0.1.0 to be effective 1/20/2025.

Filed Date: 1/2/25.

Accession Number: 20250102-5260.

Comment Date: 5 p.m. ET 1/23/25.

Docket Numbers: ER25-849-000.

Applicants: PJM Interconnection, L.L.C.

Description: 205(d) Rate Filing: Original GIA, SA No. 7452; PI No. AF2-252; Cancellation of ISA, SA No. 2551 to be effective 12/3/2024.

Filed Date: 1/2/25.

Accession Number: 20250102-5258.

Comment Date: 5 p.m. ET 1/23/25.

Docket Numbers: ER25-850-000.

Applicants: Tri-State Generation and Transmission Association, Inc.

Description: 205(d) Rate Filing: Notice of Cancellation of Rate Schedule FERC No. 249 to be effective 12/31/2024.

Filed Date: 1/2/25.

Accession Number: 20250102-5273.

Comment Date: 5 p.m. ET 1/23/25.

Docket Numbers: ER25-851-000.

Applicants: PacifiCorp.

Description: 205(d) Rate Filing: Constellation FKA Exelon NITSA (OR DA) SA 943 Rev 7 to be effective 1/1/2025.

Filed Date: 1/3/25.

Accession Number: 20250103-5027.

Comment Date: 5 p.m. ET 1/24/25.

Docket Numbers: ER25-852-000.

Applicants: Southwest Power Pool, Inc.

Description: 205(d) Rate Filing: Revisions to Extend Tariff Administration between SPP and SPA through 6/30/2026 to be effective 1/1/2025.

Filed Date: 1/3/25.

Accession Number: 20250103-5029.

Comment Date: 5 p.m. ET 1/24/25.

Docket Numbers: ER25-853-000.

Applicants: PJM Interconnection, L.L.C.

Description: 205(d) Rate Filing: Amendment to ISA, Service Agreement No. 5979; Queue No. AD2-085/AE2-247/AF1-017 to be effective 3/5/2025.

Filed Date: 1/3/25.

Accession Number: 20250103-5031.

Comment Date: 5 p.m. ET 1/24/25.

Docket Numbers: ER25-854-000.

Applicants: Evergy Kansas Central, Inc.

Description: 205(d) Rate Filing: EKC Revisions to Rate Schedule FERC No. 326 Doniphan to be effective 2/1/2025.

Filed Date: 1/3/25.

Accession Number: 20250103-5048.

Comment Date: 5 p.m. ET 1/24/25.

Docket Numbers: ER25-855-000.

Applicants: PJM Interconnection, L.L.C.

Description: 205(d) Rate Filing: Amendment to ISA, Service Agreement No. 7041; Queue No. AE2-092 to be effective 3/5/2025.

Filed Date: 1/3/25.

Accession Number: 20250103-5087.

Comment Date: 5 p.m. ET 1/24/25.

Docket Numbers: ER25-856-000.

Applicants: Tri-State Generation and Transmission Association, Inc.

Description: 205(d) Rate Filing: Amendment to Rate Schedule FERC No. 13 to be effective 3/5/2025.

Filed Date: 1/3/25.

Accession Number: 20250103-5091.

Comment Date: 5 p.m. ET 1/24/25.

Docket Numbers: ER25-857-000.

Applicants: Public Service Company of Colorado.

Description: 205(d) Rate Filing: 2025-01-03 PSC—CCR—738 NOC to be effective 1/4/2025.

Filed Date: 1/3/25.

Accession Number: 20250103-5135.

Comment Date: 5 p.m. ET 1/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 3, 2025.
Debbie-Anne A. Reese,
Secretary.

[FR Doc. 2025-00356 Filed 1-8-25; 8:45 am]

BILLING CODE 6717-01-P